DEPARTMENT OF ENERGY

Federal Energy Regulatory Commission

Combined Notice of Filings #1

Take notice that the Commission received the following electric corporate filings:

Docket Numbers: EC16-25-000.

Applicants: Florida Power & Light Company.

Description: Application for Authorization Under Section 203 of the Federal Power Act and Request for Expedited Action of Florida Power & Light Company.

Filed Date: 11/2/15.

Accession Number: 20151102-5263.

Comments Due: 5 p.m. ET 11/23/15.

Take notice that the Commission received the following electric rate filings:

Docket Numbers: ER10-1484-012.

Applicants: Shell Energy North America (US), L.P.

Description: Notice of Non-Material Change in Status of Shell Energy North America (US), L.P.

Filed Date: 11/2/15.

Accession Number: 20151102-5298.

Comments Due: 5 p.m. ET 11/23/15.

Docket Numbers: ER10-2806-002; ER10-2818-002; ER10-2847-002; ER14-963-002; ER13-2386-005.

Applicants: TransAlta Energy Marketing (U.S.) Inc., TransAlta Energy Marketing Corporation, TransAlta Centralia Generation LLC, TransAlta Wyoming Wind LLC, Lakeswind Power Partners, LLC.

Description: Notice of Change in Status of the TransAlta MBR Entities.

Filed Date: 11/2/15.

Accession Number: 20151102-5267.

Comments Due: 5 p.m. ET 11/23/15.

Docket Numbers: ER15-1453-000.

Applicants: Entergy Arkansas, Inc., Entergy Gulf States Louisiana, L.L.C., Entergy Louisiana, LLC, Entergy Mississippi, Inc., Entergy New Orleans, Inc., Entergy Texas, Inc.

Description: Supplement to April 1, 2015 Application of Entergy Services, Inc., on behalf of the Entergy Operating Companies with actual 2014 PBOP amounts to be included in the 2015 formula rate update.

Filed Date: 10/30/15.

Accession Number: 20151030-5253.

Comments Due: 5 p.m. ET 11/20/15.

Docket Numbers: ER16-243-000.

Applicants: PJM Interconnection, L.L.C.

Description: Tariff Cancellation: Notice of Cancellation of Service Agreement No. 3105 (PJM-DP&L NITSA) to be effective 1/1/2016.

Filed Date: 11/2/15.

Accession Number: 20151102-5245.

Comments Due: 5 p.m. ET 11/23/15.

Docket Numbers: ER16-244-000.

Applicants: Southwest Power Pool, Inc.

Description: Section 205(d) Rate Filing: 3095 Missouri River Energy Services NITSA and NOA to be effective 10/1/2015.

Filed Date: 11/2/15.

Accession Number: 20151102-5248.

Comments Due: 5 p.m. ET 11/23/15.

Docket Numbers: ER16-245-000.

Applicants: Southwest Power Pool, Inc.

Description: Section 205(d) Rate Filing: 3126 WAPA NITSA and NOA to be effective 10/1/2015.

Filed Date: 11/2/15.

Accession Number: 20151102-5254.

Comments Due: 5 p.m. ET 11/23/15.

Docket Numbers: ER16-246-000.

Applicants: Golden Spread Electric Cooperative, Inc.

Description: Section 205(d) Rate Filing: WPC 2016 Amendment Filing to be effective 1/1/2016.

Filed Date: 11/2/15.

Accession Number: 20151102-5255.

Comments Due: 5 p.m. ET 11/23/15.

Docket Numbers: ER16-247-000.

Applicants: Southwest Power Pool, Inc.

Description: Section 205(d) Rate Filing: 3127 Montana-Dakota Utilities Co. NITSA and NOA to be effective 10/1/2015.

Filed Date: 11/2/15.

Accession Number: 20151102-5260.

Comments Due: 5 p.m. ET 11/23/15.

Docket Numbers: ER16-248-000.

Applicants: Midcontinent Independent System Operator, Inc.

Description: Request for Waiver of Midcontinent Independent System Operator, Inc.

Filed Date: 11/2/15.

Accession Number: 20151102-5302.

Comments Due: 5 p.m. ET 11/23/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2015.
Nathaniel J. Davis, Sr.,
Deputy Secretary.

[FR Doc. 2015-28418 Filed 11-6-15; 8:45 am]

BILLING CODE 6717-01-P